DEPARTMENT OF HOMELAND SECURITY

U.S. Citizenship and Immigration Services

[CIS No. 2586-16; DHS Docket No. USCIS-2013-0001]

RIN 1615-ZB54

Extension and Redesignation of Syria for Temporary Protected Status

AGENCY: U.S. Citizenship and Immigration Services, Department of Homeland Security.

ACTION: Notice.

SUMMARY: Through this Notice, the Department of Homeland Security (DHS) announces that the Secretary of Homeland Security (Secretary) is extending the designation of the Syrian Arab Republic (Syria) for Temporary Protected Status (TPS) for 18 months, from October 1, 2016 through March 31, 2018, and redesignating Syria for TPS for 18 months, effective October 1, 2016 through March 31, 2018.

The extension allows TPS beneficiaries to retain TPS through March 31, 2018, so long as they continue to meet the eligibility requirements for TPS. The redesignation of Syria allows additional individuals who have been continuously residing in the United States since August 1, 2016 to obtain TPS, if otherwise eligible. The Secretary has determined that an extension of the current designation and a redesignation of Syria for TPS are warranted because the ongoing armed conflict and other extraordinary and temporary conditions that prompted the 2015 TPS redesignation have not only persisted, but have deteriorated, and because the ongoing armed conflict in Syria and other extraordinary and temporary conditions would pose a serious threat to the personal safety of Syrian nationals if they were required to return to their country.

Through this Notice, DHS also sets forth procedures necessary for nationals of Syria (or aliens having no nationality who last habitually resided in Syria) either to: (1) Re-register under the extension if they already have TPS and to apply for renewal of their Employment Authorization Documents (EADs) with U.S. Citizenship and Immigration Services (USCIS); or, (2) submit an initial registration application under the redesignation and apply for an EAD.

For individuals who have already been granted TPS under the 2012 original Syria designation or under the 2013 or 2015 Syria redesignations, the 60-day re-registration period runs from August 1, 2016 through September 30, 2016. USCIS will issue new EADs with a March 31, 2018 expiration date to eligible Syria TPS beneficiaries who timely re-register and apply for EADs under this extension. Given the timeframes involved with processing TPS re-registration applications, DHS recognizes that not all re-registrants will receive new EADs before their current EADs expire on September 30, 2016. Accordingly, through this Notice, DHS automatically extends the validity of EADs issued under the TPS designation of Syria for 6 months, through March 31, 2017, and explains how TPS beneficiaries and their employers may determine which EADs are automatically extended and their impact on Employment Eligibility Verification (Form I-9) and E-Verify processes.

Under the redesignation, individuals who currently do not have TPS (or an initial TPS application pending) may submit an initial application during the 180-day initial registration period that runs from August 1, 2016 through January 30, 2017. In addition to demonstrating continuous residence in the United States since August 1, 2016 and meeting other eligibility criteria, initial applicants for TPS under this redesignation must demonstrate that they have been continuously physically present in the United States since October 1, 2016, the effective date of this redesignation of Syria, before USCIS may grant them TPS.

TPS initial applications that were either filed during the 2013 redesignation or during the 2015 Syria redesignation and remain pending on August 1, 2016 will be treated as initial applications under this 2016 redesignation. Individuals who have a pending initial Syria TPS application will not need to file a new Application for Temporary Protected Status (Form I-821). DHS provides additional instructions in this Notice for individuals whose TPS applications remain pending and who would like to obtain an EAD valid through March 31, 2018.

DATES: Extension of Designation of Syria for TPS: The 18-month extension of the TPS designation of Syria is effective October 1, 2016, and will remain in effect through March 31, 2018. The 60-day re-registration period runs from August 1, 2016 through September 30, 2016.

Redesignation of Syria for TPS: The redesignation of Syria for TPS is effective October 1, 2016, and will remain in effect through March 31, 2018, a period of 18 months. The 180-day initial registration period for new applicants under the Syria TPS redesignation runs from August 1, 2016 through January 30, 2017.

FOR FURTHER INFORMATION CONTACT:

• For further information on TPS, including guidance on the application process and additional information on eligibility, please visit the USCIS TPS Web page at http://www.uscis.gov/tps.

• You can find specific information about this extension and redesignation of Syria for TPS by selecting “TPS Designated Country: Syria” from the menu on the left side of the TPS Web page. You can also contact Jerry Rigdon, Chief of the Waivers and Temporary Services Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS Notice. It is not for individual case status inquiries.

• Applicants seeking information about the status of their individual cases can check Case Status Online, available at the USCIS Web site at http://www.uscis.gov, or call the USCIS National Customer Service Center at 800-375-5283 (TTY 800-767-1833).

• Further information will also be available at local USCIS offices upon publication of this Notice.

SUPPLEMENTARY INFORMATION:

Table of Abbreviations

BIA—Board of Immigration Appeals

DHS—Department of Homeland Security

DOS—Department of State

EAD—Employment Authorization Document

FNC—Final Nonconfirmation

Government—U.S. Government

IJ—Immigration Judge

INA—Immigration and Nationality Act

OHCHR—Office of the High Commissioner for Human Rights

OSC—U.S. Department of Justice, Office of Special Counsel for Immigration-Related Unfair Employment Practices

SARG—Syrian Arab Republic Government

SAVE—USCIS Systematic Alien Verification for Entitlements Program

Secretary—Secretary of Homeland Security

TNC—Tentative Nonconfirmation

TPS—Temporary Protected Status

TTY—Text Telephone

UN—United Nations

UNHCR—United Nations High Commissioner for Refugees

UNICEF—United Nations Children's Emergency Fund

USAID—U.S. Agency for International Development

USCIS—U.S. Citizenship and Immigration Services

WFP—World Food Programme

WHO—World Health Organization

What is Temporary Protected Status (TPS)?

• TPS is a temporary immigration status granted to eligible nationals of a country designated for TPS under the Immigration and Nationality Act (INA), or to eligible persons without nationality who last habitually resided in the designated country.

• During the TPS designation period, TPS beneficiaries are eligible to remain in the United States and may obtain work authorization, so long as they continue to meet the requirements of TPS.

• TPS beneficiaries may also be granted travel authorization as a matter of discretion.

• The granting of TPS does not result in or lead to permanent resident status.

• When the Secretary terminates a country's TPS designation, beneficiaries return to the same immigration status they maintained before TPS, if any (unless that status has since expired or been terminated), or to any other lawfully obtained immigration status they received while registered for TPS.

When was Syria designated for TPS?

On March 29, 2012, the Secretary designated Syria for TPS based on extraordinary and temporary conditions within that country that prevented Syrian nationals and those with no nationality who last resided in Syria from returning to Syria in safety. See Designation of Syrian Arab Republic for Temporary Protected Status, 77 FR 19026 (March 29, 2012), and correction at 77 FR 20046 (April 3, 2012); see also INA section 244(b)(1)(C), 8 U.S.C. 1254a(b)(1)(C). In 2013, the Secretary both extended Syria's designation and redesignated Syria for TPS for 18 months through March 31, 2015. See Extension and Redesignation of Syria for Temporary Protected Status, 78 FR 36223 (Jun. 17, 2013). The 2013 redesignation of Syria for TPS added the ongoing armed conflict in Syria as an additional basis for TPS. In 2015, the Secretary both extended Syria's designation and redesignated Syria for TPS for 18 months through September 30, 2016. See Extension and Redesignation of Syria for Temporary Protected Status, 80 FR 245 (January 5, 2015). This announcement is the fourth designation of TPS for Syria and the third extension since the initial designation in 2012.

What authority does the Secretary have to extend the designation of Syria for TPS?

Section 244(b)(1) of the INA, 8 U.S.C. 1254a(b)(1), authorizes the Secretary, after consultation with appropriate U.S. Government (Government) agencies, to designate a foreign state (or part thereof) for TPS if the Secretary finds that certain country conditions exist.¹ The Secretary may then grant TPS to eligible nationals of that foreign state (or aliens having no nationality who last habitually resided in that state). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary determines that a foreign state continues to meet the conditions for TPS designation, the designation may be extended for an additional period of 6, 12 or 18 months. See INA section 244(b)(3)(C), 8 U.S.C. 1254a(b)(3)(C). If the Secretary determines that the foreign state no longer meets the conditions for TPS designation, the Secretary must terminate the designation. See INA section 244(b)(3)(B), 8 U.S.C. 1254a(b)(3)(B).

What is the Secretary's authority to redesignate Syria for TPS?

In addition to extending an existing TPS designation, the Secretary, after consultation with appropriate Government agencies, may redesignate a country (or part thereof) for TPS. See INA section 244(b)(1), 8 U.S.C. 1254a(b)(1); see also INA section 244(c)(1)(A)(i), 8 U.S.C. 1254a(c)(1)(A)(i) (requiring that “the alien has been continuously physically present since the effective date of the most recent designation of the state”) (emphasis added). This is one of numerous instances in which the Secretary, and prior to the establishment of DHS, the Attorney General, has simultaneously extended a country's TPS designation and redesignated the country for TPS. See, e.g., Extension and Redesignation of Syria for Temporary Protected Status, 78 FR 36223 (Jun. 17, 2013); Extension and Redesignation of Sudan for Temporary Protected Status, 78 FR 1872 (Jan. 9, 2013); Extension and Redesignation of Haiti for Temporary Protected Status, 76 FR 29000 (May 19, 2011); Extension of Designation and Redesignation of Liberia Under Temporary Protected Status Program, 62 FR 16608 (Apr. 7, 1997) (discussing legal authority for redesignation of a country for TPS).

When the Secretary designates or redesignates a country for TPS, he also has the discretion to establish the date from which TPS applicants must demonstrate that they have been “continuously resid[ing]” in the United States. See INA section 244(c)(1)(A)(ii), 8 U.S.C. 1254a(c)(1)(A)(ii). This discretion permits the Secretary to tailor the “continuous residence” date to offer TPS to the group of eligible individuals that the Secretary deems appropriate.

The Secretary has determined that the “continuous residence” date for applicants for TPS under the redesignation of Syria shall be August 1, 2016. Initial applicants for TPS under this redesignation must also show they have been “continuously physically present” in the United States since October 1, 2016, which is the effective date of the Secretary's redesignation of Syria. See INA section 244(c)(1)(A)(i), 8 U.S.C. 1254a(c)(1)(A)(i). For each initial TPS application filed under the redesignation, the final determination of whether the applicant has met the “continuous physical presence” requirement cannot be made until October 1, 2016. USCIS, however, will issue EADs, as appropriate, during the registration period in accordance with 8 CFR 244.5(b).

Why is the Secretary extending the TPS designation for Syria and simultaneously redesignating Syria for TPS through March 31, 2018?

Over the past year, DHS and the Department of State (DOS) have continued to review conditions in Syria. Based on this review and after consulting with DOS, the Secretary has determined that an 18-month extension and redesignation is warranted because the ongoing armed conflict and other extraordinary and temporary conditions that prompted the January 5, 2015 redesignation continue to exist. Furthermore, the Secretary has decided the conditions warrant changing the “continuous residence” date so as to provide TPS protection to eligible Syrian nationals who arrived between January 5, 2015 and August 1, 2016. The “continuous physical presence” date must be the effective date of the redesignation, which the Secretary has established as October 1, 2016, so that individuals granted TPS under the redesignation will have TPS for the same 18-month period through March 31, 2018 as TPS beneficiaries re-registering under the extension. See INA section 244(c)(1)(A)(i); 8 U.S.C. 1254a(c)(1)(A)(i).

Violent conflict and the deteriorating humanitarian crisis continue to pose significant risk throughout Syria. Hundreds of thousands have been killed as a result of ongoing violence. Concerns for health and safety have led to largescale civilian displacement within Syria and migrations to neighboring countries and Europe. As of May 2016, the U.S. Agency for International Development (USAID) reports that 13.5 million people worldwide are in need of humanitarian assistance as a result of armed conflict in Syria. In May 2016, the United Nations Special Envoy for Syria has estimated that as many as 400,000 individuals have been killed, and 1.5 million injured since the violence began in 2011. According to information from USAID, as of March 2016, the United Nations High Commissioner for Refugees (UNHCR) had registered 4.8 million refugees in neighboring countries, and 6.5 million people were internally displaced Syria.

Syria's lengthy civil conflict has resulted in high levels of food insecurity, limited access to water and medical care, and massive destruction of Syria's infrastructure. Attacks against civilians, the use of chemical weapons and irregular warfare tactics, as well as forced conscription and use of child soldiers have intensified the humanitarian crisis. USAID reports reductions in agricultural production, widespread displacement, disruption of markets and transportation, elimination of bread subsidies, damage to infrastructure including mills and bakeries, and loss of livelihoods are contributing to unprecedented food insecurity in Syria. As of 2015, it was estimated that over 6.3 million people within Syria, as well as 3 million Syrian refugees in neighboring countries are in need of emergency food assistance. In late 2015, due to significant funding deficits, food assistance distributed by the United Nation's World Food Programme (WFP) and 37 other non-governmental organizations (NGOs) reduced the level of assistance provided to 1.3 million Syrian refugees by 50 percent. According to information from USAID, WFP continues to face funding shortages for its programs in 2016, and is currently providing monthly food assistance to 1.4 million refugees and over 4 million people inside Syria.

Water availability in Syria has decreased to less than 50 percent of its pre- civil war levels. United Nations Children's Emergency Fund (UNICEF) reported that in 2015 alone, as many as 5 million people living in cities and communities across the country have suffered the consequences of long and sometimes deliberate interruptions to their water supplies. Additionally, strikes against population centers in the course of military operations has resulted in wide-scale destruction of water supply networks and infrastructure. According to information from USAID, between January and March 2016, 16 million Syrians relied on water assistance from the International Committee of the Red Cross and the Syrian Arab Red Crescent for survival.

Water scarcity as a result of power outages and limited access to fuel has caused numerous health and financial issues for families in Damascus, Aleppo, the southern city of Dera'a, and other areas. According to information from USAID, UNICEF reported in May 2016 that fuel supplies to the Sulaiman Al-Halabi and Bab Alnerab pumping stations were cut off, thus depriving 2 million people access to clean water. Additionally, water prices have dramatically increased, with cities like Aleppo seeing upwards of a 3,000 percent increase in the cost of clean water. Unable to afford the rising cost of limited clean water supplies, families rely on dirty water from unprotected and unregulated groundwater sources. As a result, UNICEF reports increased cases of typhoid, diarrhea, hepatitis, and other diseases in children and other at-risk populations.

Civilian health needs continue to rise as Syria's health system deteriorates. The World Health Organization (WHO) reports that 58 percent of public hospitals were either partially functional or completely destroyed as of September 2015. Syrian medical personnel and facilities have been repeatedly struck in the course of military operations, particularly Syrian government air operations.

In early 2015, the WHO reported that the conflict has significantly impacted the ability for NGOs to deliver medical aid into and throughout Syria. Between 2011 and April 2016, Physicians for Human Rights reports that 738 medical personnel have been killed and 259 medical facilities indiscriminately or deliberately attacked. The organization reports that government forces use “double tap” tactics, attacking a site and then attacking it again once first responders arrive. Physicians for Human Rights documented 122 attacks on medical facilities in 2015, the highest rate of attacks on hospitals since the start of the conflict. The Office of the High Commissioner for Human Rights (OHCHR) reported an increase in miscarriages, birth defects, and infant mortality. NGOs operating near major population centers, such as Aleppo, reported on outbreaks of cholera, typhoid, scabies and tuberculosis among the populations.

As of November 2015, Syria's civil war has caused over $270 billion in damages to the country's infrastructure. An estimated 2.1 million homes, half of the country's hospitals, and over 7,000 schools have been destroyed due to the conflict. Population centers such as Raqqah, Homs, and Aleppo, valued for their strategic positions by the opposition, extremists, and government forces, have become targets of military operations from all sides of the conflict. For example, within the city of Kobane, after 4 months of fighting between Kurdish and Islamic State forces, over 3,200 buildings were damaged. In Aleppo, at least 14,000 structures were damaged or destroyed, mostly by government airstrikes, with an additional unknown number of buildings destroyed as a result of front line conflict.

The recruitment and use of child soldiers has become “commonplace” in the Syrian armed conflict according to a 2015 United Nations report. Forced conscription has affected the Syrian population more broadly as the conflict persists into its 6th year. While mandatory military service is a longstanding practice in Syria, the government strengthened its enforcement measures in 2014 and 2015. High rates of draft-dodging, desertions, and defections have left the Syrian military lacking sufficient manpower. In response, the Assad regime has launched large-scale arrests of military-age men through raids and checkpoints. For example, over the course of a 4-day period in October 2014, more than 2,600 men were detained for service by government forces in the cities of Hama and Homs. Once detained, conscripts usually receive minimal training, and are often deployed to a frontline position within days of their arrest. Furthermore, conscripts have reported being held beyond the normal term of 18 months and forced to extend through multiple tours of duty.

Daily bombings of homes, marketplaces, schools, hospitals, and places of worship have become commonplace for Syrian civilians living in major cities. The use of barrel bombs by the Assad regime is an ongoing occurrence in major population centers. Human Rights Watch reports that the Syrian military has dropped dozens of barrel bombs a day on opposition-held neighborhoods in Aleppo, Idlib, Dara'a and elsewhere. Amnesty International reports that relentless aerial bombardment and shelling by Syrian government forces is magnifying the suffering of civilians trapped under siege and facing an escalating humanitarian crisis in the Eastern Ghouta region. Between January and June 2015, the report indicates, Syrian government forces carried out over 60 airstrikes that resulted in over 500 civilian deaths.

As of May 2016, nearly 11.3 million Syrians had been displaced from their homes since the beginning of the Syrian conflict, with over 1.2 million estimated to have been displaced in 2015 alone. According to the U.N. Office for the Coordination of Humanitarian Affairs, nearly 50 percent of displaced persons are children. Furthermore, an estimated 4.6 million Syrians live in over 127 “hard-to-reach” and 18 “besieged” locations within Syria, and are unlikely to receive humanitarian assistance. By May 2016, the United Nations and ground partners were only able to reach 11.7 percent and 64.9 percent of people in these locations, respectively. By the end of 2014, Syrians represented 43 percent of all internally displaced persons worldwide. The Internal Displacement Monitoring Centre reports that in 2015, a family was displaced every minute as a result of the protracted civil war and conflict. The humanitarian crisis in Syria continues to deteriorate, and the escalation of the conflict indicates that there is no immediate possibility for safe return.

Based upon this review and after consultation with appropriate Government agencies, the Secretary finds that:

• The conditions that prompted the January 5, 2015 redesignation of Syria for TPS continue to be met. See INA section 244(b)(3)(A) and (C), 8 U.S.C. 1254a(b)(3)(A) and (C).

• There continues to be ongoing armed conflict in Syria and, due to such conflict, requiring the return of Syrian nationals to Syria would pose a serious threat to their personal safety. See INA section 244(b)(1)(A), 8 U.S.C. 1254a(b)(1)(A).

• There continue to be extraordinary and temporary conditions in Syria that prevent Syrian nationals from returning to Syria in safety. See INA section 244(b)(1)(C), 8 U.S.C. 1254a(b)(1)(C).

• It is not contrary to the national interest of the United States to permit Syrian nationals (and persons who have no nationality who last habitually resided in Syria) who meet the eligibility requirements of TPS to remain in the United States temporarily. See INA section 244(b)(1)(C), 8 U.S.C. 1254a(b)(1)(C).

• The designation of Syria for TPS should be extended for an additional 18-month period from October 1, 2016 through March 31, 2018. See INA section 244(b)(3)(C), 8 U.S.C. 1254a(b)(3)(C).

• Based on current country conditions, Syria should be simultaneously redesignated for TPS effective October 1, 2016 through March 31, 2018. See INA sections 244(b)(1)(A), (b)(1)(C), and (b)(2); 8 U.S.C. 1254a(b)(1)(A), (b)(1)(C), and (b)(2).

• TPS applicants must demonstrate that they have continuously resided in the United States since August 1, 2016.

• The date by which TPS applicants must demonstrate that they have been continuously physically present in the United States is October 1, 2016, the effective date of the redesignation of Syria for TPS.

• There are approximately 5,800 current Syrian TPS beneficiaries who are expected to apply for re-registration and may be eligible to retain their TPS under the extension.

• It is estimated that an additional 2,500 individuals may file initial applications for TPS under the redesignation of Syria.

Notice of Extension of the TPS Designation of Syria and Redesignation of Syria for TPS

By the authority vested in me as Secretary under INA section 244, 8 U.S.C. 1254a, I have determined, after consultation with the appropriate Government agencies, that the conditions that prompted the redesignation of Syria for TPS in 2015 not only continue to be met, but have significantly deteriorated. See INA section 244(b)(3)(A), 8 U.S.C. 1254a(b)(3)(A). On the basis of these determinations, I am simultaneously extending the existing TPS designation of Syria for 18 months from October 1, 2016 through March 31, 2018, and redesignating Syria for TPS for the same 18-month period. See INA sections 244(b)(1)(A), (b)(1)(C), and (b)(2); 8 U.S.C. 1254a(b)(1)(A), (b)(1)(C), and (b)(2). I have also determined that eligible individuals must demonstrate that they have continuously resided in the United States since August 1, 2016. See INA section 244(c)(1)(A)(ii), 8 U.S.C. 1254a(c)(1)(A)(ii).

Jeh Charles Johnson,
Secretary.

I am currently a Syria TPS beneficiary. What should I do?

If you filed a TPS application during the Syria TPS registration periods that ran from January 5, 2015 through March 6, 2015, and that application was approved prior to August 1, 2016, then you need to file a re-registration application under the extension if you wish to maintain TPS benefits through March 31, 2018. You must use the Application for Temporary Protected Status (Form I-821) to re-register for TPS. The 60-day open reregistration period will run from August 1, 2016 through September 30, 2016.

I have a pending initial TPS application filed during the Syria TPS registration period that ran from January 5, 2015 through July 6, 2015. What should I do?

If your TPS application is still pending on August 1, 2016, then you do not need to file a new Application for Temporary Protected Status (Form I-821). Pending TPS applications will be treated as initial applications under this re-designation. Therefore, if your TPS application is approved, you will be granted TPS through March 31, 2018. If you have a pending TPS application and you wish to have an EAD valid through March 31, 2018, please refer to Table 1 to determine whether you should file a new Application for Employment Authorization (Form I-765).

Table 1—Form and EAD Information for Pending TPS Applications
If . . . | And . . . | Then . . .
You requested an EAD during the previous initial registration periods for Syria TPS | You received an EAD with Category C19 or A12 | You must file a new Application for Employment Authorization (Form I-765) with fee (or fee waiver request) if you wish to have a new EAD valid through March 31, 2018.
| You did not receive an EAD with Category C19 or A12 | You do not need to file a new Application for Employment Authorization (Form I-765). If your TPS application is approved, your Application for Employment Authorization (Form I-765) will be approved through March 31, 2018.
You did not request an EAD during the previous initial registration period for Syria TPS | You wish to have an EAD valid through March 31, 2018 | You must file a new Application for Employment Authorization (Form I-765) with fee (or fee waiver request).
| You do not wish to have an EAD valid through March 31, 2018 | You do not need to file a new Application for Employment Authorization (Form I-765).

I am not a TPS beneficiary, and I do not have a TPS application pending. What are the procedures for initial registration for TPS under the Syria redesignation?

If you are not a Syria TPS beneficiary or do not have a pending TPS application with USCIS, you may submit your TPS application during the 180-day initial registration period that will run from August 1, 2016 through January 30, 2017.

Required Application Forms and Application Fees To Register or Re-Register for TPS

To register or re-register for TPS for Syria, an applicant must submit each of the following two applications:

1. Application for Temporary Protected Status (Form I-821).

• If you are filing an initial application, you must pay the fee for the Application for Temporary Protected Status (Form I-821). See 8 CFR 244.2(f)(2) and 244.6 and information on initial filing on the USCIS TPS Web page at http://www.uscis.gov/tps.

• If you are filing an application for re-registration, you do not need to pay the fee for the Application for Temporary Protected Status (Form I-821). See 8 CFR 244.17. and

2. Application for Employment Authorization (Form I-765).

• If you are applying for initial registration and want an EAD, you must pay the fee for the Application for Employment Authorization (Form I-765) only if you are age 14 through 65. No fee for the Application for Employment Authorization (Form I-765) is required if you are under the age of 14 or are 66 and older and applying for initial registration.

• If you are applying for re-registration and want an EAD, you must pay the fee for the Application for Employment Authorization (Form I-765), regardless of your age.

• If you are not requesting an EAD, regardless of whether you are applying for initial registration or re-registration, you do not pay the fee for the Application for Employment Authorization (Form I-765).

You must submit both completed application forms together. If you are unable to pay for the application and/or biometric services fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Refiling an Initial TPS Application After Receiving a Denial of a Fee Waiver Request

If you request a fee waiver when filing your initial TPS application package and your request is denied, you may re-file your application packet before the initial filing deadline of January 30, 2017. If you submit your application with a fee waiver request before that deadline, but you receive a fee waiver denial and there are fewer than 45 days before the filing deadline (or the deadline has passed), you may still re-file your application within the 45-day period after the date on the USCIS fee waiver denial notice. Your application will not be rejected even if the filing deadline has passed, provided it is mailed within those 45 days and all other required information for the application is included. Note: If you wish, you may also wait to request an EAD and pay the Application for Employment Authorization (Form I-765) fee after USCIS grants you TPS, if you are found eligible. If you choose to do this, you would file the Application for Temporary Protected Status (Form I-821) with the fee and the Application for Employment Authorization (Form I-765) without fee and without requesting an EAD.

Re-Filing a TPS Re-Registration Application After Receiving a Denial of a Fee Waiver Request

USCIS urges all re-registering applicants to file as soon as possible within the 60-day re-registration period so that USCIS can process the applications and issue EADs promptly. Filing early will also allow those applicants who may receive denials of their fee waiver requests to have time to re-file their applications before the re-registration deadline. If, however, an applicant receives a denial of his or her fee waiver request and is unable to re-file by the re-registration deadline, the applicant may still re-file his or her application. This situation will be reviewed to determine whether the applicant has established good cause for late re-registration. However, applicants are urged to re-file within 45 days of the date on their USCIS fee waiver denial notice, if at all possible. See INA section 244(c)(3)(C); 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee, until after USCIS has approved the individual's TPS re-registration, if he or she is eligible.

Mailing Information

Mail your application for TPS to the proper address in Table 2.

Table 2—Mailing Addresses
If . . . | Mail to . . .
You are applying through the U.S. Postal Service | USCIS, Attn: TPS Syria, P.O. Box 6943, Chicago, IL 60680-6943.
You are using a non-U.S. Postal Service delivery service | USCIS, Attn: TPS Syria, 131 S. Dearborn 3rd Floor, Chicago, IL 60603-5517.

If you were granted TPS by an Immigration Judge (IJ) or the Board of Immigration Appeals (BIA), and you wish to request an EAD, or are re-registering for the first time following a grant of TPS by an IJ or the BIA, please mail your application to the appropriate address in Table 2. When submitting a re-registration application and/or requesting an EAD based on an IJ/BIA grant of TPS, please include a copy of the IJ or BIA order granting you TPS with your application. This will aid in the verification of your grant of TPS and processing of your application, as USCIS may not have received records of your grant of TPS by either the IJ or the BIA.

E-Filing

You cannot electronically file your application when re-registering or submitting an initial registration for Syria TPS. Please mail your application to the mailing address listed in Table 2.

Supporting Documents

The filing instructions on the Application for Temporary Protected Status (Form I-821) list all the documents needed to establish basic eligibility for TPS. You may also find information on the acceptable documentation and other requirements for applying or registering for TPS on the USCIS Web site at www.uscis.gov/tps under “Syria.”

Do I need to submit additional supporting documentation?

If one or more of the questions listed in Part 4, Question 2 of the Application for Temporary Protected Status (Form I-821) applies to you, then you must submit an explanation on a separate sheet(s) of paper and/or additional documentation.

Employment Authorization Document (EAD)

How can I obtain information on the status of my EAD request?

To get case status information about your TPS application, including the status of a request for an EAD, you can check Case Status Online at http://www.uscis.gov, or call the USCIS National Customer Service Center at 800-375-5283 (TTY 800-767-1833). If your Application for Employment Authorization (Form I-765) has been pending for more than 90 days and you still need assistance, you may request an EAD inquiry appointment with USCIS by using the InfoPass system at https://infopass.uscis.gov. However, we strongly encourage you first to check Case Status Online or call the USCIS National Customer Service Center for assistance before making an InfoPass appointment.

Am I eligible to receive an automatic 6-month extension of my current EAD through March 31, 2017?

Provided that you currently have TPS under the Syria designation, this Notice automatically extends your EAD by 6 months if you:

• Are a national of Syria (or an alien having no nationality who last habitually resided in Syria);

• Received an EAD under the last extension or redesignation of TPS for Syria; and

• Have an EAD with a marked expiration date of September 30, 2016, bearing the notation “A-12” or “C-19” on the face of the card under “Category.”

Although this Notice automatically extends your EAD through March 31, 2017, you must re-register timely for TPS in accordance with the procedures described in this Notice if you would like to maintain your TPS.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization). Or you may present an acceptable receipt for List A, List B, or List C documents as described in the Form I-9 Instructions. An EAD is an acceptable document under “List A.” Employers may not reject a document based on a future expiration date.

If your EAD has an expiration date of September 30, 2016, and states “A-12” or “C-19” under “Category,” it has been extended automatically for 6 months by virtue of this Federal Register Notice, and you may choose to present your EAD to your employer as proof of identity and employment authorization for Employment Eligibility Verification (Form I-9) through March 31, 2017 (see the subsection titled “How do my employer and I complete the Employment Eligibility Verification (Form I-9) using an automatically extended EAD for a new job?” for further information). To minimize confusion over this extension at the time of hire, you should explain to your employer that USCIS has automatically extended your EAD through March 31, 2017. You may also show your employer a copy of this Federal Register Notice confirming the automatic extension of employment authorization through March 31, 2017. As an alternative to presenting your automatically extended EAD, you may choose to present any other acceptable document from List A, a combination of one selection from List B and one selection from List C, or a valid receipt.

What documentation may I show my employer if I am already employed but my current TPS-related EAD is set to expire?

Even though EADs with an expiration date of September 30, 2016, that state “A-12” or “C-19” under “Category” have been automatically extended for 6 months by this Federal Register Notice, your employer will need to ask you about your continued employment authorization once March 31, 2017 is reached to meet its responsibilities for Employment Eligibility Verification (Form I-9). Your employer may need to reinspect your automatically extended EAD to check the expiration date and code to record the updated expiration date on your Form I-9 if he or she did not keep a copy of this EAD when you initially presented it. However, your employer does not need a new document to reverify your employment authorization until March 31, 2017, the expiration date of the automatic extension. Instead, you and your employer must make corrections to the employment authorization expiration dates in Section 1 and Section 2 of Employment Eligibility Verification (Form I-9) (see the subsection titled “What corrections should my current employer and I make to Employment Eligibility Verification (Form I-9) if my EAD has been automatically extended?” for further information). In addition, you may also show this Federal Register Notice to your employer to explain what to do for Employment Eligibility Verification (Form I-9).

By March 31, 2017, the expiration date of the automatic extension, your employer must reverify your employment authorization. At that time, you must present any document from List A or any document from List C on Employment Eligibility Verification (Form I-9) to reverify employment authorization, or an acceptable List A or List C receipt described in the Form I-9 Instructions. Your employer should complete either Section 3 of the Employment Eligibility Verification (Form I-9) originally completed for you or, if this Section has already been completed or if the version of Employment Eligibility Verification (Form I-9) has expired (check the date in the upper right-hand corner of the form), complete Section 3 of a new Employment Eligibility Verification (Form I-9) using the most current version. Note that your employer may not specify which List A or List C document employees must present, and cannot reject an acceptable receipt.

Can my employer require that I provide any other documentation to prove my status, such as proof of my Syrian citizenship?

No. When completing Employment Eligibility Verification (Form I-9), including re-verifying employment authorization, employers must accept any documentation that appears on the “Lists of Acceptable Documents” for Employment Eligibility Verification (Form I-9) that reasonably appears to be genuine and that relates to you, or an acceptable List A, List B, or List C receipt. Employers may not request documentation that does not appear on the “Lists of Acceptable Documents.” Therefore, employers may not request proof of Syrian citizenship or proof of re-registration for TPS when completing Employment Eligibility Verification (Form I-9) for new hires or reverifying the employment authorization of current employees. If presented with EADs that have been automatically extended, employers should accept such EADs as valid List A documents so long as the EADs reasonably appear to be genuine and to relate to the employee. Refer to the Note to Employees section of this Notice for important information about your rights if your employer rejects lawful documentation, requires additional documentation, or otherwise discriminates against you based on your citizenship or immigration status, or your national origin.

What happens after March 31, 2017, for purposes of employment authorization?

After March 31, 2017, employers may no longer accept the EADs that this Federal Register Notice automatically extended. Before that time, however, USCIS will issue new EADs to eligible TPS re-registrants who request them. These new EADs will have an expiration date of March 31, 2018, and can be presented to your employer for completion of Employment Eligibility Verification (Form I-9). Alternatively, you may choose to present any other legally acceptable document or combination of documents listed on the Employment Eligibility Verification (Form I-9).

How do my employer and I complete Employment Eligibility Verification (Form I-9) using an automatically extended EAD for a new job?

When using an automatically extended EAD to complete Employment Eligibility Verification (Form I-9) for a new job prior to March 31, 2017, you and your employer should do the following:

1. For Section 1, you should:

a. Check “An alien authorized to work”;

b. Write your alien number (USCIS number or A-number) in the first space (your EAD or other document from DHS will have your USCIS number or A-number printed on it; the USCIS number is the same as your A-number without the A prefix); and

c. Write the automatically extended EAD expiration date (March 31, 2017) in the second space.

2. For Section 2, employers should record the:

a. Document title;

b. Document number; and

c. Automatically extended EAD expiration date (March 31, 2017).

By March 31, 2017, employers must reverify the employee's employment authorization in Section 3 of the Employment Eligibility Verification (Form I-9).

What corrections should my current employer and I make to Employment Eligibility Verification (Form I-9) if my EAD has been automatically extended?

If you are an existing employee who presented a TPS-related EAD that was valid when you first started your job, but that EAD has now been automatically extended, your employer may need to reinspect your automatically extended EAD if your employer does not have a copy of the EAD on file, and you and your employer should correct your previously completed Employment Eligibility Verification (Form I-9) as follows:

1. For Section 1, you should:

a. Draw a line through the expiration date in the second space;

b. Write “March 31, 2017” above the previous date;

c. Write “TPS Ext.” in the margin of Section 1; and

d. Initial and date the correction in the margin of Section 1.

2. For Section 2, employers should:

a. Draw a line through the expiration date written in Section 2;

b. Write “March 31, 2017” above the previous date;

c. Write “TPS Ext.” in the margin of Section 2; and

d. Initial and date the correction in the margin of Section 2.

By March 31, 2017, when the automatic extension of EADs expires, employers must reverify the employee's employment authorization in Section 3.

If I am an employer enrolled in E-Verify, what do I do when I receive a “Work Authorization Documents Expiration” alert for an automatically extended EAD?

E-Verify automated the verification process for employees whose TPS was automatically extended in a Federal Register Notice. If you have an employee who is a TPS beneficiary who provided a TPS-related EAD when he or she first started working for you, you will receive a “Work Authorization Documents Expiring” case alert when the auto-extension period for this EAD is about to expire. By March 31, 2017, employment authorization must be reverified in Section 3. Employers should not use E-Verify for reverification.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY for the hearing impaired is at 877-875-6028) or email USCIS at I-9Central@dhs.gov. Calls and emails are accepted in English and many other languages. For questions about avoiding discrimination during the employment eligibility verification process (I-9 and E-Verify), employers may also call the U.S. Department of Justice, Office of Special Counsel for Immigration-Related Unfair Employment Practices (OSC) Employer Hotline at 800-255-8155 (TTY 800-237-2515), which offers language interpretation in numerous languages, or email OSC at osccrt@usdoj.gov.

Note to Employees

For general questions about the employment eligibility verification process, employees may call USCIS at 888-897-7781 (TTY for the hearing impaired is at 877-875-6028) or email at I-9Central@dhs.gov. Calls are accepted in English, Spanish and many other languages. Employees or applicants may also call the OSC Worker Information Hotline at 800-255-7688 (TTY 800-237-2515) for information regarding employment discrimination based upon citizenship, immigration status, or national origin, including discrimination related to Employment Eligibility Verification (Form I-9) and E-Verify. The OSC Worker Information Hotline provides language interpretation in numerous languages.

To comply with the law, employers must accept any document or combination of documents from the List of Acceptable Documents if the documentation reasonably appears to be genuine and to relate to the employee, or an acceptable List A, List B, or List C receipt as described in the Employment Eligibility Verification (Form I-9) Instructions. Employers may not require extra or additional documentation beyond what is required for Employment Eligibility Verification (Form I-9) completion. Further, employers participating in E-Verify who receive an E-Verify case result of “Tentative Nonconfirmation” (TNC) must promptly inform employees of the TNC and give such employees an opportunity to contest the TNC. A TNC case result means that the information entered into E-Verify from Employment Eligibility Verification (Form I-9) differs from Federal or State government records.

Employers may not terminate, suspend, delay training, withhold pay, lower pay or take any adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY for the hearing impaired is at 877-875-6028). To report an employer for discrimination in the E-Verify process based on citizenship or immigration status, or based on national origin, contact OSC's Worker Information Hotline at 800-255-7688 (TTY 800-237-2515). Additional information about proper nondiscriminatory Employment Eligibility Verification (Form I-9) and E-Verify procedures is available on the OSC Web site at http://www.justice.gov/crt/about/osc/ and the USCIS Web site at http://www.dhs.gov/E-verify.

Note Regarding Federal, State, and Local Government Agencies (Such as Departments of Motor Vehicles)

While Federal government agencies must follow the guidelines laid out by the Federal government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples of such documents are:

(1) Your unexpired EAD that has been automatically extended, or your EAD that has not expired;

(2) A copy of this Federal Register Notice if your EAD is automatically extended under this Notice;

(3) A copy of your Application for Temporary Protected Status Notice of Action (Form I-797) for this re-registration;

(4) A copy of your past or current Application for Temporary Protected Status Notice of Action (Form I-797), if you received one from USCIS; and/or

(5) If there is an automatic extension of work authorization, a copy of the fact sheet from the USCIS TPS Web site that provides information on the automatic extension.

Check with the government agency regarding which document(s) the agency will accept. You may also provide the agency with a copy of this Federal Register Notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections or make an appointment can be found at the SAVE Web site at http://www.uscis.gov/save, then by choosing “For Benefit Applicants” from the menu on the right and then selecting “Questions about Your Records?”

[FR Doc. 2016-17933 Filed 7-29-16; 8:45 am]

BILLING CODE 9111-97-P